DEPARTMENT OF DEFENSE

Office of the Secretary

Board of Visitors Meeting

AGENCY: Department of Defense Acquisition University.

ACTION: Board of Visitors meeting.

SUMMARY: The next meeting of the Defense Acquisition University (DAU) Board of Visitors (BoV) will be held in the Packard Conference Center, Building 184, Fort Belvoir, Virginia on Tuesday, March 26, 2002 from 0900-1500. The purpose of this meeting is to report back to the BoV on continuing items of interest.

The meeting is open to the public; however, because of space limitations, allocation of seating will be made on a first-come, first served basis. Persons desiring to attend the meeting should call Ms. Kelley Berta at 703-805-5412.

Dated: March 1, 2002.
L.M. Bynum,
Alternate, OSD Federal Liaison Officer, Department of Defense.

[FR Doc. 02-5364 Filed 3-6-02; 8:45 am]

BILLING CODE 5001-08-M